DEPARTMENT OF STATE

[Public Notice 8701]

Shipping Coordinating Committee; Notice of Committee Meeting

The Shipping Coordinating Committee (SHC) will conduct an open meeting at 9:00 a.m. on Tuesday, May 13, 2014, in the Alexander Hamilton Room (AHR), 9th floor, of the U.S. Coast Guard Personnel Service Center (PSC), 4200 Wilson Boulevard, Suite 1100, Arlington, VA 20598-7200. The primary purpose of the meeting is to prepare for the thirty-ninth session of the International Maritime Organization's (IMO) Facilitation Committee to be held at the IMO Headquarters, United Kingdom, September 22-26, 2014.

The agenda items to be considered include:

—Decisions of other IMO bodies

—Consideration and adoption of proposed amendments to the Convention

—General review of the Convention, including harmonization with other international instruments

—E-business possibilities for the facilitation of maritime traffic

—Formalities connected with the arrival, stay and departure of persons

—Ensuring security in and facilitating international trade

—Ship/port interface

—Guidelines on minimum training and education for mooring personnel

—Technical cooperation activities related to facilitation of maritime traffic

—Relations with other organizations

—Application of the Committee's Guidelines

—Work programme

—Election of Chairman and Vice-Chairman for 2015

—Any other business

Members of the public may attend this meeting up to the seating capacity of the room. To facilitate the building security process, and to request reasonable accommodation, those who plan to attend should contact the meeting coordinator, Mr. David Du Pont, by email at David.A.DuPont@uscg.mil, by phone at (202) 372-1497, by fax at (202) 372-1928, or in writing at Commandant (CG-REG), U.S. Coast Guard Stop 7418, 2703 Martin Luther King Jr. Ave. SE., Washington, DC 20593-7418 not later than May 6, 2014, 7 days prior to the meeting. Requests made after May 6, 2014, might not be able to be accommodated. Please note that due to security considerations, two valid, government issued photo identifications must be presented to gain entrance to the building. The USCG PSC is in the Ballston Commons Plaza located above the Ballston Common Mall in Arlington, VA. It can be reached by driving and is conveniently located next to the Ballston Metro Station.

For members of the public that would like to participate, but are unable to attend this meeting the Coast Guard will provide a teleconference option. To participate by phone, contact the meeting coordinator (details above) to obtain teleconference information. Note the number of teleconference lines is limited and will be available on a first-come, first-served basis.

Additional information regarding this and other IMO SHC public meetings may be found at: www.uscg.mil/imo. Information specific to the Facilitation Committee may be found at www.uscg.mil/imo/fal and www.uscg.mil/hq/cg5/cg523/imo.asp.

Dated: April 14, 2014.
Marc Zlomek,
Executive Secretary, Shipping Coordinating Committee, Department of State.

[FR Doc. 2014-08922 Filed 4-17-14; 8:45 am]

BILLING CODE 4710-09-P